NATIONAL SCIENCE FOUNDATION

Agency Information Collection Activities: Proposed Collection, Comment Request

AGENCY: National Science Foundation.

ACTION: Notice.

SUMMARY: The National Science Foundation (NSF) is announcing plans to request clearance of a revision to this currently approved collection. In accordance with the requirement of Section 3506(c)(2)(A) of the Paperwork Reduction Act of 1995, we are providing opportunity for public comment on this action. While obtaining and considering public comment, NSF will prepare the submission requesting OMB clearance of this collection for no longer than three years.

Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information of respondents, including through the use of automated collection techniques or other forms of information technology.

DATES: Written comments should be received by May 14, 2007, to be assured of consideration. Comments received after that date will be considered to the extent practicable.

ADDRESSES: Written comments regarding the information collection and requests for copies of the proposed information collection request should be addressed to Suzanne Plimpton, Reports Clearance Officer, National Science Foundation, 4201 Wilson Boulevard, Room 295, Arlington, VA 22230, or by e-mail to splimpton@nsf.gov.

FOR FURTHER INFORMATION CONTACT: Suzanne Plimpton on (703) 292-7556 or send e-mail to splimpton@nsf.gov. Individuals who use a telecommunications device for the deaf (TDD) may call the Federal Information Relay Service (FIRS) at 1-800-877-8339 between 8 a.m. and 8 p.m., eastern time, Monday through Friday.

SUPPLEMENTARY INFORMATION:

Title of Collection: Data Collection for the Evaluation of the Historically Black Colleges and Universities—University (HBCU-UP) Program.

OMB Control No.: 3145-0204.

Expiration Date of Approval: October 31, 2009.

Abstract: The National Science Foundation (NSF) requests revision and extension of a currently approved data collection (e.g., interviews, surveys, focus groups, site visits protocols) measuring NSF's contribution to the Nation's Historically Black Colleges and Universities (HBCU) enterprise and overall science and engineering workforce. This continuation expands the data collection most recently approved through October 2009 (OMB 3145-0204) beyond the student respondents to administrators, faculty and other participants, observers, or beneficiaries in undergraduate programs in Science, Technology, Engineering and Mathematics (STEM) at Historically Black Colleges and Universities. NSF is reissuing this notice because the first notice did not make clear that there would be both individual and institutional respondents to these data collections.

NSF funds a program, called Historically Black Colleges and Universities Undergraduate Program (HBCU-UP), designed to help institutions strengthen the quality of their undergraduate STEM programs. For more information about HBCU-UP please visit the NSF Web site at: http://www.nsf.gov/funding/pgm_summ.jsp?pims_id=5481&org=HRD&from=home.

The Urban Institute (UI) is conducting an evaluation of the HBCU-UP program which received initial approval from the Office of Management and Budget (OMB) on 31 October 2006.

Using a multiple-methods approach, UI researchers are conducting an evaluation to study the effectiveness of the program. The evaluation will include both process and summative components. The process component will document how different models within the Program are being implemented, thus helping evaluators to link strategies to outcomes, identify crucial components of different models, and contribute to the construction of general theories to guide future initiatives to increase the diversity of the STEM workforce. The summative component of the evaluation will focus on the extent to which the Program has produced outcomes that meet stated goals for students, faculty and institutions. The process evaluation relies mainly on qualitative data collected during case study site visits and interviews; the summative evaluation will rely primarily on data collected through a survey of graduates and faculty.

NSF uses the UI analysis to prepare and publish reports and to respond to requests from Committees of Visitors, Congress and the Office of Management and Budget, particularly as related to the Government Performance and Results Act (GPRA) and the Program Effectiveness Rating Tool (PART). The HBCU-UP study's broad questions include but are not limited to:

What do individuals following post-participation in HBCU-UP or other NSF-funded undergraduate education opportunities do? Do HBCU-UP or other NSF-funded opportunities provide graduates with the professional and/or research skills needed to work in science and engineering? Are HBCU-UP or other NSF-sponsored students and faculty satisfied that their NSF-funded experience advanced their careers in science or engineering? To what extent do HBCU-UP or other former-NSF-sponsored graduates engage in the science and engineering workforce conduct inter- or multi-disciplinary science? Is there evidence of a legacy from NSF-funding that changed a degree-granting department beyond number of students supported and degrees awarded? To what extent have projects achieved or contributed to individual project goals or the NSF program goals? To what extent have NSF-funded projects or programs broadened participation by diverse individuals, particularly individuals traditionally underemployed in science or engineering, including but not limited to women, minorities, and persons-with-disabilities?

Respondents: Individuals or households, not-for-profit institutions, business or other for profit, and Federal, State, Local or Tribal Government.

Estimated Number of Annual Respondents: 5000.

Burden on the Public: 1250 hours.

Dated: March 9, 2007.
Suzanne H. Plimpton,
Reports Clearance Officer, National Science Foundation.

[FR Doc. E7-4619 Filed 3-13-07; 8:45 am]

BILLING CODE 7555-01-P